DEPARTMENT OF THE INTERIOR

Bureau of Land Management

DEPARTMENT OF AGRICULTURE

Forest Service

[LLIDI002000.13300000.EO0000]

Notice of Intent To Prepare an Environmental Impact Statement for the Proposed Husky 1-North Dry Ridge Phosphate Mine and Reclamation Plan, Caribou County, ID

AGENCY: Bureau of Land Management, Interior; Forest Service, Agriculture.

ACTION: Notice of intent.

SUMMARY: In compliance with the National Environmental Policy Act (NEPA) of 1969, the Federal Land Policy and Management Act (FLPMA) of 1976, and the Mineral Leasing Act of 1920, as amended, notice is hereby given that the Department of the Interior, Bureau of Land Management (BLM), Pocatello Field Office, and the U.S. Department of Agriculture, Forest Service (FS), Caribou-Targhee National Forest, will jointly prepare an Environmental Impact Statement (EIS) to determine and analyze the effects of a proposed phosphate mine and reclamation plan on Federal mineral leases held by Nu-West Mining, Inc., in eastern Idaho. The EIS will also consider the effects of increasing the size of existing leases through lease modifications.

DATES: To ensure that comments will be considered, the BLM must receive written comments on the scope of the analysis described in this notice by September 4, 2012. The BLM will announce future meetings and any other public involvement activities at least 15 days in advance through public notices, media news releases, and/or mailings.

ADDRESSES: Written comments may be submitted to: Husky 1-North Dry Ridge Mine EIS, C/O Tetra Tech, Address: 2525 Palmer Street, Suite 2, Missoula, MT 59808, or via email at: BLM_ID_HUSKY1NDR_EIS@blm.gov. Please reference “Husky 1-North Dry Ridge Mine EIS” on all correspondence.

FOR FURTHER INFORMATION CONTACT: Bill Stout, Bureau of Land Management, Pocatello Field Office, 4350 Cliffs Drive, Pocatello, Idaho 83204, phone 208-478-6367. Scoping information will also be available at the BLM's Web-site at http://www.blm.gov/pgdata/content/id/en/info/nepa.html, or the FS Web site at http://www.fs.usda.gov/projects/ctnf/landmanagement/projects.

SUPPLEMENTARY INFORMATION: The BLM, as the Federal lease administrator, will serve as the lead agency and the FS as the co-lead agency. The Idaho Department of Environmental Quality is a cooperating agency. The mining and reclamation plans have been developed and submitted for agency review for the proposed open pit mining operations on the Federal phosphate leases IDI-05549 (Husky 1), lease IDI-8289 (North Dry Ridge), and on a portion of the IDI-04 (Maybe Canyon Lease), as well as in areas north and south of the Husky 1 lease within federally designated known phosphate lease area (KPLA) boundaries, in Caribou County, Idaho. Open pit mining operations would be conducted by Nu-West Mining, Inc., doing business as Agrium Conda Phosphate Operations (Agrium). Agrium's proposed mine plan includes two different mining areas separated by the historically operated, now inactive, Maybe Canyon Mine. Portions of the Maybe Canyon Mine are currently undergoing investigation and remediation through the Comprehensive, Environmental Response, and Liability Act (CERCLA). The Husky 1-North Dry Ridge Phosphate Mine Project area is located about 19 miles northeast of Soda Springs, Idaho.

The proposed new mining operations at the Husky 1-North Dry Ridge Mine Project area occur on Federal phosphate leases administered by the BLM, on unleased parcels of National Forest System Lands, and on private lands. The leases are primarily located on National Forest System lands. The National Forest System lands involved lie within the Soda Springs Ranger District of the Caribou-Targhee National Forest. The existing leases grant the lessee, Agrium in this case, exclusive rights to mine and otherwise dispose of the federally owned phosphate deposit at the site. Through development of this EIS, the BLM and the FS will analyze environmental impacts of the proposed mining and reclamation operations and reasonable alternatives to the proposed action. Appropriate mitigation measures will also be formulated.

Agency Decisions

The BLM Idaho State Director or delegated official will approve, approve with modifications, or deny the proposed mine and reclamation plan, the proposed lease modifications and appropriate land use authorizations on leased lands. Decisions will be based on the EIS and any recommendations the FS may have regarding surface management of leased National Forest System lands. The FS Caribou-Targhee National Forest Supervisor will make:

(1) Recommendations to the BLM concerning surface management and mitigation on leased lands within the Caribou-Targhee National Forest; and

(2) Decisions on mine-related activities that occur off-lease within the Caribou-Targhee National Forest. Special Use Authorizations from the FS would be necessary for any support structures and facilities for the mine located off-lease within the Caribou-Targhee National Forest.

The applicable land use plans have been reviewed relative to the proposed action and at this time it is not anticipated that any amendments would be needed.

The Army Corps of Engineers may also make decisions related to permits under Section 404 of the Clean Water Act.

Background

Agrium plans open-pit mining of the phosphate on their existing leases according to the terms of the leases. The proposed Husky 1-North Dry Ridge Mine Project would include an open-pit phosphate mine and associated features including growth media stockpiles, temporary and permanent overburden storage areas, storm water retention ponds and mine pit backfill areas, haul roads, equipment staging areas, and re-routing of an existing National Forest System Road (#134) for approximately 13 years. A power line may also be needed for the duration of mining and reclamation.

The existing three leases contain 3,026.59 acres. In order to maximize phosphate mineral recovery, the lessee has proposed lease modifications (enlargements) to both the Husky 1 and North Dry Ridge leases totaling 470 acres. Agrium has also requested off-lease Special Use Authorizations covering 395 additional acres to accommodate access roads, storm water retention facilities, and staging areas. While a portion of Federal Lease IDI-8289 (North Dry Ridge) occurs on Idaho Department of Fish and Game lands, no disturbance on these lands is proposed in the mine plan. The EIS will analyze a proposed disturbance of approximately 1,051.64 acres on private and National Forest System Lands; about 645.86 acres on the three existing leases, 397.24 acres on requested lease modifications and Special Use Authorizations, and about 8.54 acres off lease on private lands.

Within the disturbance area on National Forest System Lands, approximately 65 acres are in the Dry Ridge Inventoried Roadless Area. The Proposed Action is consistent with the exemptions for phosphate mining within the General Forest, Rangeland, and Grassland theme of the 2008 Idaho Roadless Rule.

The mining sequence included in the Proposed Action is to mine the North Dry Ridge and Husky 1 consecutively, but with some transitional overlap. Mining will begin in the North Dry Ridge area, and then progress to the Husky 1 as production at North Dry Ridge slows. It is anticipated that mining of the North Dry Ridge deposit will occur for approximately 2.6 years followed by approximately 11 years of mining operations on the Husky 1 deposit. Mining in the North Dry Ridge area will progress from north to south, with overburden placed in the existing North Maybe Canyon pit as backfill, followed by overburden placement in the North Dry Ridge pit itself as room is made available. In the Husky 1 area, mining will again proceed generally from north to south. Initially, overburden from the Husky 1 pit would be placed in a waste dump and into the existing South Maybe Canyon southern pit as overburden backfill. As mining progresses southeast in the Husky 1 pit, overburden would be placed in the South Maybe pit, the North Maybe Canyon pit, or the previously mined out areas of the North Dry Ridge as overburden backfill.

Agrium has proposed management practices in its mine and reclamation plan to reduce environmental impacts. Reclamation would be conducted concurrently with mining. Agrium's plan also emphasizes the backfilling of mine pits, thereby limiting the amount of overburden placed in permanent external storage areas. To reduce the potential for contaminant release to water or uptake by reclamation vegetation, Agrium is proposing to limit the amount of time that seleniferous (selenium-bearing) overburden is exposed to the elements, to return all seleniferous overburden material to the mine pits as backfill, and to cap overburden with a combination of low-seleniferous material and liner material.

Agrium proposes building new facilities associated with its mining operations including a staging area, fuel storage area, and dust suppression wells with water fill stands. In addition, existing offices and shop facilities at the nearby Dry Valley Mine would be used.

Off-lease facilities on private lands would include haul roads, stockpile areas, and a train load-out facility (tipple).

Potential impacts to water quality from dissolved metals including selenium will be addressed in the EIS. Agrium has proposed to implement practices designed to reduce, eliminate, or mitigate these impacts as described above. Suitable soil or other growth media would be salvaged from disturbed areas for use in reclamation. Concurrent mine reclamation would include backfilling pits as mining progresses, grading slopes, capping overburden disposal areas and pit backfills, reestablishing drainages, spreading growth media, stabilizing surfaces, promoting revegetation, and testing and treatment for any remaining contaminants. Facilities and equipment would be removed at closure. Environmental monitoring would be performed to ensure impacts do not exceed those authorized.

Issues initially identified for the proposed mining of the Husky 1—North Dry Ridge Mine Project include potential effects on groundwater and surface water quantity and quality; uptake of contaminants by vegetation, loss of soil and mineral resources; changes to air quality; loss of wildlife and their habitats (including fisheries); reduction of livestock grazing; impacts to wetlands and riparian habitat; reduced opportunity for recreation; impacts to inventoried roadless areas, changes in socio-economics such as employment and the continued operation of a fertilizer plant and support businesses; reduced opportunity to implement Native American rights, treaties, and land uses; changes to visual resources.

The BLM and FS will use and coordinate NEPA public participation requirements to assist the agency in satisfying public involvement under Section 106 of the National Historic Preservation Act (NHPA) (16 U.S.C. 470(f)) pursuant to 36 CFR 800.2(d)(3). The information about historic and cultural resources within the area potentially affected by the proposed action will assist in identifying and evaluating impacts to such resources in the context of both NEPA and Section 106 of the NHPA.

The BLM and Forest Service will consult with Indian tribes on a government-to-government basis in accordance with Executive Order 13175 and other policies. Tribal concerns, including impacts to treaty rights and potential impacts to cultural resources, will be given due consideration. Federal, State, and local agencies, along with tribes and other stakeholders that may be interested in or affected by the proposed project that is being evaluated, are invited to participate in the scoping process and, if eligible, may request or be requested by the BLM or FS to participate in the development of the environmental analysis as cooperating agencies.

Alternatives and Schedule

The EIS will analyze the Proposed Action and the No Action Alternative. Other alternatives may be considered that could provide mitigation of potential impacts.

The tentative EIS project schedule is as follows:

• Begin public scoping period and meetings: Summer 2012;

• Release draft EIS and associated comment period: January 2015;

• Final EIS publication: Fall 2016; and

• Records of Decision: Fall 2016.

Scoping Procedure

The scoping procedure to be used for this EIS will involve notification in the Federal Register; a mailing to interested and potentially affected individuals, groups, Federal, State, and local government entities requesting input by way of comments, issues and concerns; news releases or legal notices; and public scoping meetings.

Before including your address, phone number, email address, or other personal identifying information in your comment, you should be aware that your entire comment—including your personal identifying information—may be made publicly available at any time. While you can ask us in your comment to withhold your personal identifying information from public review, we cannot guarantee that we will be able to do so. Comments will be available for public review at the BLM address listed above during regular business hours (8 a.m. to 4 p.m.), Monday through Friday, except Federal holidays.

The BLM and the FS are seeking information and written comments concerning the Proposed Action from Federal, State, tribal, and local agencies, individuals, and organizations interested in, or affected by, the Proposed Action or Alternatives. To assist the BLM and the FS in identifying issues and concerns related to the Proposed Action, scoping comments should be as specific as possible.

At least three “open-house” style public scoping meetings will be held which will include displays explaining the project and a forum for asking questions and commenting on the project.

Meetings are planned to be held in Pocatello, Fort Hall, and Soda Springs, Idaho. The dates, times, and locations of the public scoping meetings will be announced in mailings and public notices issued by the BLM (see DATES above).

Authority: 43 U.S.C. 4321 et seq.; 40 CFR parts 1500-1508; 43 CFR part 46; 43 U.S.C. 1701; and 43 CFR part 3590.

Joe Kraayenbrink,
District Manager, Idaho Falls District, Bureau of Land Management.
Brent Larson,
Forest Supervisor, Caribou-Targhee National Forest.

[FR Doc. 2012-18883 Filed 8-1-12; 8:45 am]

BILLING CODE 4310-GG-P